SECURITIES AND EXCHANGE COMMISSION

Sunshine Act Meeting

TIME AND DATE: Notice is hereby given, pursuant to the provisions of the Government in the Sunshine Act, Public Law 94-409, that the Securities and Exchange Commission will hold an Open Meeting on Wednesday, July 26, 2023 at 10:00 a.m.

PLACE: The meeting will be webcast on the Commission's website at www.sec.gov.

STATUS: This meeting will begin at 10:00 a.m. (ET) and will be open to the public via webcast on the Commission's website at www.sec.gov.

MATTERS TO BE CONSIDERED:

1. The Commission will consider whether to adopt rules to enhance and standardize disclosures regarding cybersecurity risk management, strategy, governance, and incidents by public companies that are subject to the reporting requirements of the Securities Exchange Act of 1934.

2. The Commission will consider whether to propose new and amended rules under the Securities Exchange Act of 1934 and the Investment Advisers Act of 1940 relating to conflicts of interest associated with broker-dealers' and investment advisers' use of predictive data analytics in connection with certain investor interactions.

3. The Commission will consider whether to propose amendments to the exemption for internet advisers from the prohibition against registration under the Investment Advisers Act of 1940.

CONTACT PERSON FOR MORE INFORMATION: For further information and to ascertain what, if any, matters have been added, deleted or postponed, please contact Vanessa A. Countryman from the Office of the Secretary at (202) 551-5400.

Authority: 5 U.S.C. 552b.

Dated: July 19, 2023.
J. Matthew DeLesDernier,
Deputy Secretary.

[FR Doc. 2023-15664 Filed 7-20-23; 11:15 am]

BILLING CODE 8011-01-P